DEPARTMENT OF THE INTERIOR

Bureau of Land Managment

[CA-5101ER A173; CACA-41878]

Proposed Plan Amendment

AGENCY: Bureau of Land Management, Interior.

ACTION: Notice of intent.

SUMMARY: Notice is hereby given that the Bureau of Land Management (BLM) has proposed a plan amendment to the California Desert Conservation Area Plan (1980) to partially exempt a proposed fiber optic cable right-of-way from designated utility corridors.

DATES: Written scoping comments must be received no later than June 13, 2000.

ADDRESSES: Written scoping comments should be addressed to the District Manager, El Paso Fiber Optic Cable, California Desert, 6221 Box Springs Blvd., Riverside, California 92507.

FOR FURTHER INFORMATION CONTACT: James L. Williams (909) 697-5390.

SUPPLEMENTARY INFORMATION: El Paso Energy Communication Co. has proposed to construct a buried fiber optic cable from Texas, through New Mexico, Arizona and terminating in Los Angles, California. The cable is inside a six inch conduit and is proposed to be place within or alongside existing roads and highways in a one foot wide 42 inch deep trench. The California portion begins at the City of Blythe and proceeds northwest along the Midland Road to its intersection with State Highway 62 where it proceeds west along side the highway to east of the City of Twentynine Palms where proceeds westerly on roads to State Highway 247. The fiber optic cable then continues west along State Highway 47, then State Highway 18, then State Highway 138 and then State Highway 14 into Los Angeles. The proposed right-of-way is a permanent 10 feet with a temporary 15 feet for construction purpose. The proposed right-of-way is not within a designated California Desert Plan (1980) utility corridor and, therefore, does not conform to the Desert Plan. A plan amendment is required to exempt it from the Desert Plan utility corridors.

Dated: May 3, 2000.
Douglas Romoli,
Acting District Manager.

[FR Doc. 00-11543 Filed 5-9-00; 8:45 am]

BILLING CODE 4310-40-U